DEPARTMENT OF AGRICULTURE

Food Safety and Inspection Service

[Docket No. 03-009N]

Using Applied Epidemiology and Other Tools To Protect the Public Health

AGENCY: Food Safety and Inspection Service, USDA.

ACTION: Notice of public meeting; request for comments.

SUMMARY: The Food Safety and Inspection Service (FSIS) is announcing that it will hold a public meeting on the use of epidemiological data, principles, and techniques, and of other public health tools, to help it achieve its public health goals. The Agency will describe how it responds to epidemiological evidence developed by States or other federal agencies; how it uses that evidence; how it conducts food safety investigations; and, in appropriate circumstances, initiates regulatory actions based on such evidence. This meeting is the second in a series of meetings that will aid FSIS in developing a framework for Agency public heatlh investigations and integration of the scientific principles of applied epidemiology into its food safety activities. This meeting is also one of a number of public meetings FSIS is conducting at which new approaches for increasing food safety are to be discussed. This meeting is the second in an on-going series of meetings that will aid FSIS in developing a framework for how the Agency will conduct public health investigations and integrate the scientific principles of applied epidemiology into its food safety activities. It is also one of a number of public meetings FSIS has been holding in which new approaches for increasing food safety are discussed.

DATES: The public meeting is scheduled for April 29, 2003, from 8:30 a.m. to 5 p.m.

ADDRESSES: The meeting will be held at The Washington Plaza Hotel, 10 Thomas Circle, NW., Washington, DC 20005. A tentative agenda will be available in the FSIS Docket Room and on the FSIS Web site at http://www.fsis.usda.gov/. The official transcript of the meeting, when it becomes available, will be kept in the FSIS Docket Room at room 102 Cotton Annex, 300 12th Street, SW., Washington, DC 20250-3700, and will represent public comments. FSIS welcomes comments on the topics to be discussed at the public meeting. Please send an original and two copies of comments to the FSIS Docket Clerk, Docket #03-009N, Room 102, Cotton Annex, Washington, DC 20250-3700. All comments and the official transcript, when it becomes available, will be kept in the FSIS Docket Room at the above address.

FOR FURTHER INFORMATION CONTACT: Mr. Philip Derfler at (202) 720-2709. Pre-registration for this meeting is suggested but not required. To register for the meeting, please contact Sheila Johnson at (202) 690-6498, fax: (202) 690-6500, or e-mail: Sheila.johnson@fsis.usda.gov. You may also register on-site. Persons requiring a sign language interpreter or other special accommodations should notify Ms. Johnson at the above numbers or e-mail address as soon as possible.

SUPPLEMENTARY INFORMATION:

Background

FSIS administers the Federal Meat Inspection Act, the Poultry Products Inspection Act, and the Egg Products Inspection Act. The Agency's activities are intended to prevent the distribution in domestic or foreign commerce, of unwholesome, adulterated, or misbranded meat, poultry, and egg products, as human food, including products that may transmit diseases or that may be otherwise injurious to health.

In recent years, the Agency has placed increased emphasis on its public health protection role. FSIS has consistently sought to enhance the public health by minimizing foodborne illness from meat, poultry, and egg products. The Agency has worked toward achieving this goal by implementing measures intended to reduce pathogens on raw products, by strengthening relationships with public health agencies at the Federal and State levels; by making food safety information and training available to people at every point in the food production and marketing chain; and by promoting international cooperation in food safety. FSIS also protects the public health by investigating and curtailing foodborne illness outbreaks associated with meat, poultry, or egg products.

For many years, FSIS has used epidemiology and other methods as tools in tracking the source of outbreaks of foodborne illness. Recent improvements in outbreak investigation and genetic fingerprinting of pathogens from persons and food products have facilitated enhancements in how the Agency uses epidemiology. It is now possible to identify otherwise unrecognized outbreaks and to develop substantive evidence to link products to illnesses. The Agency has begun using the techniques of epidemiology during in-plant assessments to help identify the source of on-going plant contamination. FSIS has also based recall requests on epidemiological data that indicated that product from a particular establishment is adulterated, but without a positive laboratory finding of product adulteration.

Public Meeting

At the public meeting, FSIS officials will discuss the Agency's utilization of investigations of foodborne illnesses associated with meat, poultry, and egg products. Epidemiological, environmental, microbiological, and other data gathered in the course of such investigations, as well as other public health tools, are used to determine what actions, if any, the Agency should take, including whether to request a recall of FSIS regulated products. The meeting will focus on: The progress the Agency has made using epidemiology as a basis of regulatory decisionmaking since the first epidemiologic meeting, which was held in January 2002; points to consider in reviewing epidemiologic findings; and FSIS's thinking on food safety investigations initiated in response to epidemiological evidence. FSIS will also present a hypothetical scenario based on recent cases of foodborne illnesses and in-plant contamination and describe its response to the scenario. A panel of food safety experts will then discuss the Agency's approaches. Finally, the Agency will open the discussion to include, and solicit comment from, the attendees. FSIS believes that this type of public process will assist it in achieving its goals and will enhance the understanding of the public health community.

Additional Public Information

Public awareness of all segments of policy development is important. Consequently, in an effort to better ensure that minorities, women, and persons with disabilities are aware of this public meeting, FSIS will announce it and provide copies of this Federal Register publication in the FSIS Constituent Update. FSIS provides a weekly FSIS Constituent Update, which is communicated via fax to over 300 organizations and individuals. In addition, the update is available on-line through the FSIS web page located at http://www.fsis.usda.gov/oa/update/update.htm. The update is used to provide information on FSIS policies, procedures, regulations, Federal Register notices, FSIS public meetings, recalls, and any other types of information that could affect or would be of interest to our constituents/stakeholders. The constituent fax list consists of industry, trade, and farm groups, consumer interest groups, allied health professionals, scientific professionals, and others that have requested to be included. Through these various channels, FSIS is able to provide information to a much broader, more diverse audience. For more information and to be added to the constituent fax list, fax your request to the Congressional and Public Affairs Office, at (202) 720-5704.

Done at Washington, DC, on April 21, 2003.
Garry L. McKee,
Administrator.

[FR Doc. 03-10393 Filed 4-25-03; 8:45 am]

BILLING CODE 3410-DM-P